DEPARTMENT OF AGRICULTURE

Food Safety and Inspection Service

[Docket No. FSIS-2017-0046]

Codex Alimentarius Commission: Meeting of the Codex Committee on Food Additives

AGENCY: Office of the Deputy Under Secretary for Food Safety, USDA.

ACTION: Notice of public meeting and request for comments.

SUMMARY: The Office of the Deputy Under Secretary for Food Safety, U.S. Department of Agriculture (USDA), and the Food and Drug Administration (FDA), U.S. Department of Health and Human Services are sponsoring a public meeting on February 13, 2018. The objective of the public meeting is to provide information and receive public comments on agenda items and draft United States (U.S.) positions to be discussed at the 50th Session of the Codex Committee on Food Additives (CCFA) of the Codex Alimentarius Commission (Codex), taking place in Xiamen, Fujian, Province China, March 26-30, 2018. The Deputy Under Secretary for Food Safety and the FDA recognize the importance of providing interested parties with the opportunity to obtain background information on the 50th Session of the CCFA and to address items on the agenda.

DATES: The public meeting is scheduled for Tuesday, February 13, 2018, from 9:00 a.m.-12:00 p.m.

ADDRESSES: The public meeting will take place at the Food and Drug Administration (FDA), Harvey Wiley Federal Building, 5001 Campus Drive, Rooms 1A-001 and 1A-002, College Park, MD 20740.

Documents related to the 50th Session of the CCFA will be accessible via the internet at the following address: http://www.codexalimentarius.org/meetings-reports/en/.

Paul Honigfort, U.S. Delegate to the 50th Session of the CCFA and the FDA invite U.S. interested parties to submit their comments electronically to the following email address: ccfa@fda.hhs.gov.

Registration: Attendees may register to attend the public meeting by emailing ccfa@fda.hhs.gov by February 9, 2018. Early registration is encouraged as it will expedite entry into the building and parking area. If you require parking, please include the vehicle make and tag number when you register. The meeting will be held in a Federal building. Attendees should bring photo identification and plan for adequate time to pass through the security screening systems. Attendees who are not able to attend the meeting in person, but wish to participate, may do so by phone. Attendees who plan to participate by phone should request the call-in number and participant code when they register for the meeting.

For Further Information About the 50th Session of the CCFA Contact:

Paul Honigfort, Ph.D., Consumer Safety Officer, Division of Food Contact Notifications, Office of Food Additive Safety, FDA, 5001 Campus Drive, College Park, MD 20740, Telephone: (240) 402-1206, Fax: (301) 436-2965, Email: Paul.Honigfort@fda.hhs.gov.

For Further Information About the Public Meeting Contact: Daniel E. Folmer, Ph.D., Review Chemist, Division of Petition Review, Office of Food Additive Safety, Center for Food Safety and Applied Nutrition, FDA, HFS-265, 5001 Campus Drive, College Park, MD 20740, Telephone: (240) 402-1269, Fax: (301) 436-2972, Email: daniel.folmer@fda.hhs.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCFA establishes or endorses permitted maximum levels for individual food additives; prepares priority lists of food additives for risk assessment by the Joint FAO/WHO Expert Committee on Food Additives (JECFA); assigns functional classes and International Numbering System (INS) numbers to individual food additives; recommends specifications of identity and purity for food additives for adoption by Codex; considers methods of analysis for the determination of additives in food; and considers and elaborates standards or codes for related subjects, such as labeling of food additives when sold as such. The CCFA is hosted by China.

Issues To Be Discussed at the Public Meeting

The following items on the agenda for the 50th Session of the CCFA will be discussed during the public meeting:

• Matters referred by the Codex and other subsidiary bodies;

• Matters of Interest arising from FAO/WHO and from the 84th Meeting of the Joint FAO/WHO Expert Committee on Food Additives (JECFA)

• Proposed draft specifications for identity and purity of food additives arising from the 84th JECFA meeting

• Endorsement and/or revision of maximum levels for food additives and processing aids in Codex Standards

• Alignment of the food additive provisions of commodity standards/Report of the EWG on Alignment;

• General Standard for Food Additives (GSFA): Report of the EWG on the GSFA;

• General Standard for Food Additives (GSFA): Proposals for new and/or revision of food additive provisions

• Discussion paper on the use of nitrates and nitrites

• Discussion paper on the use of the terms “unprocessed” and “plain” in the GSFA

• Proposed draft revision to the International Numbering System (INS) for Food Additives

• Proposals for additions and changes to the Priority List of Substances Proposed for evaluation by JECFA

• Discussion paper on “Future Strategies for CCFA”

• Other Business and Future Work.

Each issue listed will be fully described in documents distributed, or to be distributed, by the Codex Secretariat before the meeting. Members of the public may access these documents at http://www.fao.org/fao-who-codexalimentarius/meetings-reports.

Public Meeting

At the February 13, 2018 public meeting, draft U.S. positions on the agenda items will be described, discussed, and attendees will have the opportunity to pose questions and offer comments. Written comments may be offered at the meeting or sent to the U.S. Delegate for the 50th Session of the CCFA, Paul Honigfort, Ph.D. at the following address: ccfa@fda.hhs.gov. Written comments should state that they relate to activities of the 50th Session of the CCFA.

Additional Public Notification

Public awareness of all segments of rulemaking and policy development is important. Consequently, FSIS will announce this Federal Register publication on-line through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Done at Washington, DC, on: December 12, 2017.
Paulo Almeida,
Acting U.S. Manager for Codex Alimentarius.

[FR Doc. 2017-27096 Filed 12-14-17; 8:45 am]

BILLING CODE 3410-DM-P